DEPARTMENT OF ENERGY

Federal Energy Regulatory Commission

[Project No. 14676-000]

Mid-Atlantic Hydro, LLC; Notice of Preliminary Permit Application Accepted for Filing and Soliciting Comments, Motions To Intervene, and Competing Applications

On April 21, 2015, Mid-Atlantic Hydro, LLC, filed an application for a preliminary permit, pursuant to section 4(f) of the Federal Power Act (FPA), proposing to study the feasibility of the Milford Hydroelectric Project (Milford Project) to be located on Republic River, near Junction City, Geary County, Kansas. The sole purpose of a preliminary permit, if issued, is to grant the permit holder priority to file a license application during the permit term. A preliminary permit does not authorize the permit holder to perform any land-disturbing activities or otherwise enter upon lands or waters owned by others without the owners' express permission.

The proposed project would consist of the following: (1) A 30-foot-long, 50-foot-wide, 30-foot-high bifurcation structure connecting to the end of an existing 615.5-foot-long, 21-foot-wide concrete horseshoe-shaped conduit serving as the outlet for the Milford Dam Reservoir; (2) a 7-foot-diameter penstock extending from the bifurcation to the powerhouse; (3) a 50-foot-long, 50-foot-wide, 30-foot-high concrete powerhouse located downstream of the existing Milford Dam and adjacent to the south abutment, containing two 1.5 megawatts Francis turbine generating units; (4) a 75-foot-long, 50-foot-wide concrete tailrace directing flows from the powerhouse back to the existing stilling basin; (5) a 4,440-foot-long, 12.7-kilovolt transmission line delivering the project power to a distribution line belonging to the local electric cooperative; (6) a 40-foot-long, 40-foot-wide switchyard containing a three-phase step-up transformer, protective equipment, and metering; (7) appurtenant facilities. The estimated annual generation of the Milford Project would be 15,000 megawatt-hours annually.

Applicant Contact: Mr. Juan Kimble, President, Mid-Atlantic Hydro, LLC, 5425 Wisconsin Avenue, Suite 600, Chevy Chase, MD 20815; phone: (301) 718-4496.

FERC Contact: Sergiu Serban; phone: (202) 502-6211; email sergiu.serban@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14676-000.

More information about this project, including a copy of the application, can be viewed or printed on the “eLibrary” link of Commission's Web site at http://www.ferc.gov/docs-filing/elibrary.asp. Enter the docket number (P-14676) in the docket number field to access the document. For assistance, contact FERC Online Support.

Dated: May 8, 2015.
Kimberly D. Bose,
Secretary.

[FR Doc. 2015-11694 Filed 5-14-15; 8:45 am]

BILLING CODE 6717-01-P